DEPARTMENT OF TRANSPORTATION

Federal Aviation Administration

Third Drone Advisory Committee (DAC) Meeting

AGENCY: Federal Aviation Administration (FAA), U.S. Department of Transportation.

ACTION: Third DAC Meeting.

SUMMARY: The FAA is issuing this notice to advise the public of the Third DAC Meeting.

DATES: The meeting will be held on May 3, 2017, 09:00 a.m.-04:00 p.m. EDT.

ADDRESSES: The meeting will be held at the Air Line Pilots Association Headquarters, 535 Herndon Parkway, Herndon, VA 20170.

FOR FURTHER INFORMATION CONTACT: Al Secen at asecen@rtca.org or 202-330-0647, or The RTCA Secretariat, 1150 18th Street NW., Suite 910, Washington, DC, 20036, or by telephone at 202-833-9339, fax at 202-833-9434, or Web site at http://www.rtca.org.

SUPPLEMENTARY INFORMATION: Pursuant to section 10(a)(2) of the Federal Advisory Committee Act (Pub. L. 92-463, 5 U.S.C., App.), notice is hereby given of the Third DAC Meeting. The DAC is a component of RTCA, which is a Federal Advisory Committee. The agenda will likely include, but may not be limited to, the following:

Wednesday, May 3, 2017

• Official Statement of the Designated Federal Official

• Welcome and Introductions, Review of the Second DAC Meeting

• Approval of Minutes from the Second DAC Meeting

• FAA Update

• DAC Subcommittee (SC) Co-Chairs Statement

• Report out of DACSC Task Group (TG) 1 (Roles and Responsibilities)

• Discussion of TG1 Recommendations

• Report out of DACSC TG2 (Access to Airspace)

• Discussion of TG2 Recommendations

• TG3 (UAS Funding) Update

• New Assignments/Agenda Topics

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on April 12, 2017.
Christopher W. Harm,
Unmanned Aircraft Systems (UAS) Stakeholder and Committee Liaison, AUS-10, UAS Integration Office, FAA.

[FR Doc. 2017-07945 Filed 4-19-17; 8:45 am]

BILLING CODE 4910-13-P